DEPARTMENT OF LABOR

Office of the Secretary

Agency Information Collection Activities; Submission for OMB Review; Comment Request; Evaluation of the Army Unemployment Compensation for Ex-Servicemembers (UCX) Claimants Initiative

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95). This program helps to ensure that required data can be provided in the desired format, reporting burden (time and financial resources) is minimized, collection instruments are clearly understood, and the impact of collection requirements on respondents can be properly assessed.

A copy of the proposed ICR can be obtained by contacting the office listed below in the addressee section of this notice.

DATES: Written comments must be submitted to the office listed in the addressee section below on or before August 12, 2013.

ADDRESSES: You may submit comments by either one of the following methods: Email: javar.janet.o@dol.gov; Mail or Courier: Janet Javar, Chief Evaluation Office, U.S. Department of Labor, Room S-2218, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Janet Javar by telephone at 202-693-5954 (this is not a toll-free number) or by email at javar.janet.o@dol.gov.

SUPPLEMENTARY INFORMATION: I. Background: The Army Unemployment Compensation for Ex-Service Members (UCX) Claimants' Initiative, funded by the U.S. Department of Labor, Employment and Training Administration (ETA), provides grants to four states to improve strategies for providing reemployment services to Army UCX claimants and for leveraging assets and sharing data across partners. The major goals of the initiative are to create a strong collaborative partnership among the Unemployment Insurance (UI) system, the public workforce system, and the three components of the Army (active, National Guard, and Reserve) that will support the rapid reemployment of UCX claimants; improve the sharing of UCX data that will lead to improved outreach and better understanding of UCX claimants and their service delivery needs; and increase outreach, exposure to jobs, and reemployment strategies for UCX claimants that fully leverage existing resources with new and innovative service delivery strategies. The period of performance for the grants is from July 1, 2012, to June 30, 2014.

The purpose of the evaluation, funded by the Chief Evaluation Office, is to determine the extent to which the initiative's goals were achieved by each of the four grantee states. The evaluation will examine the services received by UCX claimants and how claimants' employment outcomes changed over the course of the grant period. Policymakers, program administrators, and service providers will gain information about the relative effectiveness of various strategies developed by states, ease of implementation, and suggestions for replication.

This package requests clearance for semi-structured discussions that will take place during a single round of two-day visits to each of the sites in the winter of 2013-2014. The site visits will involve an array of individuals that varies by state based on the projects that each state has decided to implement. Conversations will take place with grantee leaders, staff of an American Job Center, and representatives of the UI system in each state. Other discussants will include a suitable combination of representatives of the Army and other participants in the initiative. The site visit will facilitate an assessment of the progress of these efforts, information gathering, and potential for the delivery of additional in-person technical assistance.

II. Desired Focus of Comments: Currently, the Department of Labor is soliciting comments concerning the above data collection for Evaluation of the Army UCX Claimants Initiative. Comments are requested to:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the information collection on those who are to respond, including the use of appropriate automated, electronic, mechanical, or other technological collection techniques or other forms of information technology, e.g., permitting electronic submissions of responses.

III. Current Actions: At this time, the Department of Labor is requesting clearance for site visit data collection for the Evaluation of the Army Unemployment Compensation for Ex-Servicemembers (UCX) Claimants Initiative.

Type of review: New information collection request.

OMB Control Number: 1205-0NEW.

Affected Public: Staff associated with implementing the Army UCX Claimants Initiative in four states.

Frequency: Once.

Total Responses: 40.

Average Time per Response: 45 minutes.

Estimated Total Burden Hours: 30 hours.

Total Burden Cost: $0.

Comments submitted in response to this request will be summarized and/or included in the request for Office of Management and Budget approval; they will also become a matter of public record.

Signed at Washington, DC, this day of June 5, 2013.
James H. Moore, Jr.,
Deputy Assistant Secretary for Policy, U.S. Department of Labor.

[FR Doc. 2013-13749 Filed 6-10-13; 8:45 am]

BILLING CODE 4510-23-P